ENVIRONMENTAL PROTECTION AGENCY

[Docket ID Numbers OECA-2004-0041, OECA-2004-0031, OECA-2004-0038, OECA-2004-0048, OECA-2004-0033, OECA-2004-0030, OECA-2004-0049, OECA-2004-0047, OECA-2004-0037, and OECA-2004-0043; FRL-7843-9]

Agency Information Collection Activities: Request for Comments on Ten Proposed Information Collection Requests (ICRs)

AGENCY: Environmental Protection Agency (EPA).

ACTION: Notice.

SUMMARY: In compliance with the Paperwork Reduction Act (44 U.S.C. 3501 et seq.), this document announces that EPA is planning to submit the following ten existing, approved, continuing Information Collection Requests (ICR) to the Office of Management and Budget (OMB) for the purpose of renewing the ICRs. Before submitting the ICRs to OMB for review and approval, EPA is soliciting comments on specific aspects of the information collections as described under SUPPLEMENTARY INFORMATION.

DATES: Comments must be submitted on or before January 31, 2005.

ADDRESSES: Comments may be submitted electronically, by mail, or through hand delivery/courier service. Follow the detailed instructions as provided under SUPPLEMENTARY INFORMATION, section I. B.

FOR FURTHER INFORMATION CONTACT: The contact individuals for each ICR are listed under SUPPLEMENTARY INFORMATION, section II. C.

SUPPLEMENTARY INFORMATION:

I. General Information

A. Background

Pursuant to section 3506(c)(2)(A) of the PRA, EPA is soliciting comments and information to enable it to:

(1) Evaluate whether the proposed collections of information are necessary for the proper performance of the functions of the Agency, including whether the information will have practical utility.

(2) Evaluate the accuracy of the Agency's estimates of the burdens of the proposed collections of information.

(3) Enhance the quality, utility, and clarity of the information to be collected.

(4) Minimize the burden of the collections of information on those who are to respond, including through the use of appropriate automated or electronic collection technologies or other forms of information technology, e.g., permitting electronic submission of responses.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to, a collection of information unless it displays a currently valid OMB control number. The OMB control numbers for EPA's standards are displayed at 40 CFR part 9.

B. Public Dockets

EPA has established official public dockets for the ICRs listed under SUPPLEMENTARY INFORMATION, section II. B. The official public docket for each ICR consists of the documents specifically referenced in the ICR, any public comments received, and other information related to each ICR. The official public docket for each ICR is the collection of materials that is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center Docket is (202) 566-1514. An electronic version of the public docket for each ICR is available through EPA Dockets (EDOCKET) at: http://www.epa.gov/edocket. Use EDOCKET to obtain a copy of the draft collection of information, to submit or to view public comments, to access the index listing of the contents of the public docket, and to access those documents in the public docket that are available electronically. When in the system, select “search,” then key in the docket ID number identified above.

Any comments related to the listed ICRs above should be submitted to EPA within 60 days of this notice. EPA's policy is that public comments, whether submitted electronically or in paper, will be made available for public viewing in EDOCKET as EPA receives them and without change, unless the comment contains copyrighted material, Confidential Business Information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

II. ICRs To Be Renewed

A. For All ICRs

The listed ICRs address Clean Air Act information collection requirements in standards (i.e., regulations) which have mandatory recordkeeping and reporting requirements. Records collected under the New Source Performance Standards (NSPS) must be retained by the owner or operator for at least two years and the records collected under the National Emission Standards for Hazardous Air Pollutants (NESHAP) must be retained by the owner or operator for at least five years. In general, the required collections consist of emissions data and other information deemed not to be private.

In the absence of such information collection requirements, enforcement personnel would be unable to determine whether the standards are being met on a continuous basis, as required by the Clean Air Act.

The Agency computed the burden for each of the recordkeeping and reporting requirements applicable to the industry for the currently approved Information Collection Requests (ICRs) listed in this notice. Where applicable, the Agency identified specific tasks and made assumptions, while being consistent with the concept of the Paperwork Reduction Act.

B. List of ICRs Planned To Be Submitted

In compliance with the Paperwork Reduction Act (44 U.S.C. 3501 et seq.), this notice announces that EPA is planning to submit the following ten proposed Information Collection Requests (ICR) to the Office of Management and Budget (OMB):

(1) NESHAP for Engine Test Cells/Stands (40 CFR part 63, subpart PPPPP); Docket ID Number OECA-2004-0041; EPA ICR Number 2066.03; OMB Control Number 2060-0483; expiration date July 31, 2005.

(2) NESHAP for Friction Materials Manufacturing (40 CFR part 63, subpart OOOO); Docket ID Number OECA-2004-0031; EPA ICR Number 2025.03; OMB Control Number 2060-0481; expiration date July 31, 2005.

(3) NESHAP for Oil and Natural Gas Production (40 CFR part 63, subpart HH); Docket ID Number OECA-2004-0038; EPA ICR Number 1788.04; OMB Control Number 2060-0417; expiration date August 31, 2005.

(4) NESHAP for Carbon Black, Ethylene, Cyanide and Spandex (40 CFR part 63, subpart YY); Docket ID Number OECA-2004-0048; EPA ICR Number 1983.03; OMB Control Number 2060-0489; expiration date August 31, 2005.

(5) NESHAP for Metal Coil Surface Coating Plants (40 CFR part 63, subpart SSSS); Docket ID Number OECA-2004-0033; EPA ICR Number 1957.03; OMB Control Number 2060-0487; expiration date August 31, 2005.

(6) NESHAP for Cellulose Products Manufacturing (40 CFR part 63, subpart UUUU); Docket ID Number OECA-2004-0030; EPA ICR Number 1974.03; OMB Control Number 2060-0488; expiration date August 31, 2005.

(7) Consolidated Federal Air Rule for SOCMI (40 CFR part 60, subparts A, BB, Ka, Kb, VV, DDD, III, NNN, and RRR; 40 CFR part 61 subparts BB, Y, and V; 40 CFR part 63, subparts F, G, H and I; 40 CFR part 65 subparts A, B, C, D, E, F, and G); Docket ID Number OECA-2004-0049; EPA ICR Number 1854.04; OMB Control Number 2060-0443; expiration date August 31, 2005.

(8) NESHAP for Polyether Polyols Production (40 CFR part 63, subpart PPP); Docket ID Number OECA-2004-0047; EPA ICR Number 1811.04; OMB Control Number 2060-0415; expiration date September 30, 2005.

(9) NESHAP for Natural Gas Transmission and Storage (40 CFR part 63, subpart HHH); Docket ID Number OECA-2004-0037; EPA ICR Number 1789.04; OMB Control Number 2060-0418; expiration date September 30, 2005.

(10) NSPS for Metallic Mineral Processing Plants (40 CFR part 60, subpart LL); Docket ID Number OECA-2004-0043; EPA ICR Number 0982.08; OMB Control Number 2060-0016; expiration date September 30, 2005.

C. Contact Individuals for ICRs

(1) NESHAP for Engine Test Cells/Stands (40 CFR part 63, subpart PPPPP); Learia Williams of the Office of Compliance at (202) 564-4113 or via e-mail to: williams.learia@epa.gov; EPA ICR Number 2066.03; OMB Control Number 2060-0483; expiration date July 31, 2005.

(2) NESHAP for Friction Materials Manufacturing (40 CFR part 63, subpart OOOO); Learia Williams of the Office of Compliance at (202) 564-4113 or via e-mail to: williams.learia@epa.gov; EPA ICR Number 2025.03; OMB Control Number 2060-0481; expiration date July 31, 2005.

(3) NESHAP for Oil and Natural Gas Production (40 CFR part 63, subpart HH); Dan Chadwick of the Office of Compliance at (202) 564-7054 or via e-mail to: chadwick.dan@epa.gov; EPA ICR Number 1788.04; OMB Control Number 2060-0417; expiration date August 31, 2005.

(4) NESHAP for Carbon Black, Ethylene, Cyanide and Spandex (40 CFR part 63, subpart YY); Marcia Mia of the Office of Compliance at (202) 564-7042 or via e-mail to: mia.marcia@epa.gov; EPA ICR Number 1983.03; OMB Control Number 2060-0489; expiration date August 31, 2005.

(5) NESHAP for Metal Coil Surface Coating Plants (40 CFR part 63, subpart SSSS); Learia Williams of the Office of Compliance at (202) 564-4113 or via e-mail to: williams.learia@epa.gov; EPA ICR Number 1957.03; OMB Control Number 2060-0487; expiration date August 31, 2005.

(6) NESHAP for Cellulose Products Manufacturing (40 CFR part 63, subpart UUUU); Scott Throwe of the Office of Compliance at (202) 564-7013 or via e-mail to: throwe.scott@epa.gov; EPA ICR Number 1974.03; OMB Control Number 2060-0488; expiration date August 31, 2005.

(7) Consolidated Federal Air Rule for SOCMI; Marcia Mia of the Office of Compliance at (202) 564-7042 or via e-mail to: mia.marcia@epa.gov; EPA ICR Number 1854.04; OMB Control Number 2060-0443; expiration date August 31, 2005.

(8) NESHAP for Polyether Polyols Production (40 CFR part 63, subpart PPP); Marcia Mia of the Office of Compliance at 202-564-7042 or via e-mail to: mia.marcia@epa.gov; EPA ICR Number 1811.04; OMB Control Number 2060-0415; expiration date September 30, 2005.

(9) NESHAP for Natural Gas Transmission and Storage (40 CFR part 63, subpart HHH); Dan Chadwick of the Office of Compliance at (202) 564-7054 or via e-mail to: chadwick.dan@epa.gov; EPA ICR Number 1789.04; OMB Control Number 2060-0418; expiration date September 30, 2005.

(10) NSPS for Metallic Mineral Processing Plants (40 CFR part 60, subpart LL); Gregory Fried of the Office of Compliance at (202)564-7016 or via e-mail to: fried.gregory@epa.gov; EPA ICR Number 0982.08; OMB Control Number 2060-0016; expiration date September 30, 2005.

D. Information for Individual ICRs

(1) NESHAP for Engine Test Cells/Stands (40 CFR part 63, subpart PPPPP); EPA ICR Number 2066.03; OMB Control Number 2060-0483; expiration date July 31, 2005.

Affected Entities: Sources potentially affected by this action are facilities that test uninstalled engines in engine test cells/stands.

Abstract: The affected entities are subject to the General Provisions of the NESHAP at 40 CFR part 63, subpart A and any changes or additions to the General Provisions specified at 40 CFR part 63, subpart PPPPP. An engine test cell/stand is any apparatus used for testing uninstalled stationary or uninstalled mobile engines. For new or reconstructed engine test cells/stands with startup on or after the effective date of this subpart, the initial notification is due not later than 120 calendar days after the source becomes subject to this standard. Owners or operators of new or reconstructed test cells/stands used for testing internal combustion engines with a rated power of 25 hp or more are also required to submit a semiannual report.

Burden Statement: In the previously approved ICR, the estimated number of respondents for this information collection was 18 with 36 responses per year. The annual industry reporting and recordkeeping burden for this collection of information was 2,840 hours. On average, each respondent reported twice per year and 79 hours were spent preparing each response. The responses were prepared initially and semiannually. The total annualized cost was $6,000, which was comprised of capital/startup costs of $6,000 and no operation and maintenance costs.

(2) NESHAP for Friction Materials Manufacturing (40 CFR part 63, subpart OOOO); EPA ICR Number 2025.03; OMB Control Number 2060-0481; expiration date July 31, 2005.

Affected Entities: Sources potentially affected by this action are friction materials manufacturing facilities.

Abstract: The affected entities are subject to the General Provisions of the NESHAP at 40 CFR part 63, subpart A and any changes or additions to the General Provisions specified at 40 CFR part 63, subpart OOOO.

Friction materials are used to manufacture products that include, but are not limited to, disc brake pucks, disc brake pads, brake linings, brake shoes, brake segments, brake blocks, brake discs, clutch facings, and clutches. The standard contains an emission limitation for solvent mixers at the affected facilities. Respondents must submit a one-time notification of applicability of the standard and a one-time notification of compliance status. Facilities must develop and implement a startup, shutdown, and malfunction plan and submit semiannual reports of any event where the plan was not followed. Semiannual reports for periods of operation during which the emission limitation is exceeded (or reports certifying that no exceedances have occurred) also are required. The general requirements require recordkeeping for applicability determinations; deviations; periods of startups, shutdowns, or malfunctions; monitoring records; and other information needed to determine compliance with the standard.

Burden Statement: In the previously approved ICR, the estimated number of respondents for this information collection was four with 11 responses per year. The annual industry reporting and recordkeeping burden for this collection of information was 1,390 hours. On average, each respondent reported three times per year and 12.5 hours were spent preparing each response. The responses were prepared initially and semiannually. The total annualized cost was $21,000, which was comprised of capital/startup costs of $1,000 and operation and maintenance costs of $1,000.

(3) NESHAP for Oil and Natural Gas Production (40 CFR part 63, subpart HH); EPA ICR Number 1788.04; OMB Control Number 2060-0417; expiration date August 31, 2005.

Affected Entities: Sources potentially affected by this action are facilities that process, upgrade, or store natural gas prior to the point at which natural gas enters the natural gas transmission and storage system.

Abstract: The National Emission Standards for Hazardous Air Pollutants (NESHAP), for the regulations published at 40 CFR part 63, subpart HH, were proposed on February 6, 1998 and promulgated on June 17, 1999.

The affected sources are subject to the General Provisions of the NESHAP at 40 CFR part 63, subpart A and any changes or additions to the general provisions specified at 40 CFR part 63, subpart HH. The requirements include initial notifications, performance tests and periodic reports. Owners or operators are also required to maintain records of the occurrence and duration of any startup, shutdown, or malfunction in the operation of an affected facility, or any period during which the monitoring system is inoperative. Initial and semiannual reports are required.

Burden Statement: In the previously approved ICR, the estimated number of respondents for this information collection was 498 with 996 responses per year. The annual industry reporting and recordkeeping burden for this collection of information was 29,489 hours. On average, each respondent reported twice per year and 29.6 hours were spent preparing each response. The responses were prepared initially and semiannually. The total annualized cost was $567,000, which was comprised of capital/startup costs of $16,000 and operation and maintenance costs of $551,000.

(4) NESHAP for Carbon Black, Ethylene, Cyanide and Spandex (40 CFR part 63, subpart YY); EPA ICR Number 1983.03; OMB Control Number 2060-0489; expiration date August 31, 2005.

Affected Entities: Entities potentially affected by this action are producers and co-producers of hydrogen cyanide and sodium cyanide; producers of carbon black by thermal-oxidative decomposition in a closed system, thermal decomposition in a cyclic process, or thermal decomposition in a continuous process; producers of ethylene from refined petroleum or liquid hydrocarbons; and producers of spandex.

Abstract: The NESHAP for Carbon black, Ethylene, Cyanide and Spandex production was promulgated on July 12, 2002. The affected entities are subject to the General Provisions of the NESHAP at 40 CFR part 63, subpart A and any changes, or additions to the General Provisions specified at 40 CFR part 63, subpart YY.

Carbon black, ethylene, cyanide and spandex production facilities are required to submit initial notifications, maintain records of the occurrence and duration of any startup, shutdown, or malfunction in the operation of an affected source, or any period during which the emissions monitoring system is inoperative. Respondents are required to monitor and keep records of specific operating parameters for each control device and to perform and document periodic inspections of the closed vent and waste water conveyance systems. Owners and operators must also submit semiannual reports of the monitoring results under the leak detection and repair program for cyanide and ethylene production.

Burden Statement: In the previously approved ICR, the estimated number of respondents for this information collection was 73 with 275 responses per year. The annual industry reporting and recordkeeping burden for this collection of information was 33,926 hours. On average, each respondent reported four times per year and 123 hours were spent preparing each response. The responses were prepared initially and semiannually. The total annualized cost was $4,917,000 which was comprised of capital/startup costs of $4,901,000 and operation and maintenance costs of $16,000.

(5) NESHAP for Metal Coil Surface Coating Plants (40 CFR part 63, subpart SSSS); EPA ICR Number 1957.03; OMB Control Number 2060-0487; expiration date August 31, 2005.

Affected Entities: Sources potentially affected by this action are metal coil surface coating plants.

Abstract: The affected entities are subject to the General Provisions of the NESHAP at 40 CFR part 63, subpart A and any changes or additions to the General Provisions specified at 40 CFR part 63, subpart SSSS.

Owners/operators subject to NESHAP are required to submit one-time notifications and one-time reports on compliance status and initial performance test results. Respondents also must develop and implement a startup, shutdown, and malfunction plan. Semiannual reports are required which include information regarding periods of operation during which measured emissions exceed an applicable limit, or control device operating parameters are outside of the established ranges. General recordkeeping requirements applicable to all NESHAP require records of applicability determinations; test results; startup, shutdown, or malfunction events; exceedances; performance test reports, monitoring records, and other information needed to determine compliance with the applicable standard.

Burden Statement: In the previously approved ICR, the estimated number of respondents for this information collection was 89 with 241 responses per year. The annual industry reporting and recordkeeping burden for this collection of information was 25,048 hours. On average, each respondent reported two times per year and 104 hours were spent preparing each response. The responses were prepared, semiannually. The total annualized cost was $236,000, which was comprised of capital/startup costs of $232,000 and operation and maintenance costs of $4,000.

(6) NESHAP for Cellulose Products Manufacturing (40 CFR part 63, subpart UUUU); EPA ICR Number 1974.03; OMB Control Number 2060-0488; expiration date August 31, 2005.

Affected Entities: Entities potentially affected by this action areowners and operators that manufacture cellulose products.

Abstract: The NESHAP for cellulose products manufacturing was promulgated on June 11, 2002.The affected entities are subject to the General Provisions of the NESHAP at 40 CFR part 63, subpart A and any changes, or additions to the General Provisions specified at 40 CFR part 63, subpart UUUU.

Respondents are required to record the values of operating parameters and maintain the averages of those values within the limits established during the performance test or other initial compliance demonstration. Respondents are given the option to use a continuous emissions monitoring system as an alternative to a continuous parameter monitoring system. Respondents are required to comply with the monitoring requirements of 40 CFR part 63, subparts F and G, for wastewater systems and 40 CFR part 63, subpart H or UU, for equipment leaks. Requirements also include notification that the facility is subject to the rule; the notification of performance test; the notification of compliance status (including results of performance tests and other initial compliance demonstrations); and semiannual compliance reports. In addition to the requirements of subpart A, cellulose ether respondents are required to comply with the applicable reporting and recordkeeping requirements of 40 CFR part 63, subparts F and G for wastewater systems, and 40 CFR part 63, subpart H or UU for equipment leaks.

Burden Statement: In the previously approved ICR, the estimated number of respondents for this information collection was 13 with nine responses per year. The annual industry reporting and recordkeeping burden for this collection of information was 1,436 hours. On average, respondents reported 0.7 times per year and 160 hours were spent preparing each response. The responses were prepared initially and semiannually. Annualized costs include capital/startup costs and operation and maintenance costs. There were no annualized costs in the previous ICR.

(7) Consolidated Federal Air Rule for SOCMI; EPA ICR Number 1854.04; OMB Control Number 2060-0443; expiration date August 31, 2005.

Affected Entities: Entities potentially affected by this action are facilities in the synthetic organic chemical industry (SOCMI).

Abstract: The Consolidated Federal Air Rule for SOCMI was promulgated on December 14, 2000. The affected entities are subject to the General Provisions at 40 CFR part 63, subpart A; 40 CFR part 60, subpart A;, 40 CFR part 61, subpart A; as well as the consolidated air rule (CAR) General Provisions at 40 CFR part 65, subpart A and any changes, or additions to the General Provisions specified in the referencing subpart or the CAR.

In general, the New Source Performance Standards (NSPS), NESHAP, and CAR regulations require initial notifications including one-time notifications of initial startup, applicability, and initial compliance status; performance tests, periodic monitoring, recordkeeping, and reporting. Periodic reports are required semiannually, and a startup, shutdown, and malfunction plan must be submitted and updated as needed. In addition, respondents taking advantage of various provisions for waivers, approval of alternative methods, and changes in schedules would be required to submit requests or applications.

Burden Statement: In the previously approved ICR, the estimated number of respondents for this information collection was 3,862 with 10,361 responses per year. The annual industry reporting and recordkeeping burden for this collection of information was 2,165,600 hours. On average, each respondent reported three times per year and 210 hours were spent preparing each response. The responses were prepared initially and semiannually. The total annualized cost was $99,921,000 which was comprised of capital/startup costs of $4,273,000 and operation and maintenance costs of $95,648,000.

(8) NESHAP for Polyether Polyols Production (40 CFR Part 63, Subpart PPP), EPA ICR Number 1811.04; OMB Control Number 2060-0415; expiration date September 30, 2005.

Affected Entities: Entities potentially affected by this action are polyether polyols and polyether monols production facilities.

Abstract: The NESHAP for polyether polyols production was promulgated on June 1, 1999. The affected entities are subject to the General Provisions at 40 CFR part 63, subpart A and any changes, or additions to the General Provisions specified at 40 CFR part 63, subpart PPP.

Polyether polyols production facilities are required to submit initial notifications, maintain records of the occurrence and duration of any startup, shutdown, or malfunction in the operation of an affected source, or any period during which the emissions monitoring system is inoperative. Respondents are required to monitor and keep records of specific operating parameters for each control device and to perform and document periodic inspections of the closed vent and waste water conveyance systems. All respondents must submit semiannual reports of the monitored parameters and must submit a report within 180 days of any process changes.

Burden Statement: In the previously approved ICR, the estimated number of respondents for this information collection was 82 with 158 responses per year. The annual industry reporting and recordkeeping burden for this collection of information was 88,680 hours. On average, each respondent reported 1.9 times per year and 561 hours were spent preparing each response. The responses were prepared initially and semiannually. The total annualized cost was $513,000 which was comprised of capital/startup costs of $513,000 with no operation and maintenance costs.

(9) NESHAP for Natural Gas Transmission and Storage (40 CFR part 63, subpart HHH); Docket ID Number OECA-2004-0037; EPA ICR Number 1789.04; OMB Control Number 2060-0418; expiration date September 30, 2005.

Affected Entities: Entities potentially affected by this action are those facilities that transport or store natural gas prior to it entering the pipeline to a local distribution company or final end user.

Abstract: The NESHAP for the standard published at 40 CFR part 63, subpart HHH, was proposed on February 6, 1998, and promulgated on June 17, 1999.

The affected sources are subject to the General Provisions at 40 CFR part 63, subpart A, and any changes or additions to the general provisions as specified at 40 CFR part 63, subpart HHH. The requirements include initial notifications, performance tests, and periodic reports. Owners or operators are also required to maintain records of the occurrence and duration of any startup, shutdown, or malfunction in the operation of an affected facility, or any period during which the monitoring system is inoperative. Semiannual reports are also required.

Burden Statement: In the previously approved ICR, the estimated number of respondents for this information collection was seven with 217 responses per year. The annual industry reporting and recordkeeping burden for this collection of information was 581 hours. On average, each respondent reported 31 times per year and 2.7 hours were spent preparing each response. The responses were prepared initially and semiannually. There were no capital/startup costs and no operation and maintenance costs, therefore, the total annualized cost were zero.

(10) NSPS for Metallic Mineral Processing Plants (40 CFR part 60, subpart LL); EPA ICR Number 0982.08; OMB Control Number 2060-0016; expiration date September 30, 2005.

Affected Entities: Entities potentially affected by this action are metallic mineral processing plants.

Abstract: The NSPS for the standard published at 40 CFR part 60, subpart LL, was promulgated on February 21, 1984.

The affected entities are subject to the General Provisions at 40 CFR part 60, subpart A and any changes, or additions to the General Provisions specified at 40 CFR part 60, subpart LL.

Owners or operators of the affected facilities described must make initial notifications, including notification of any physical or operational change to an existing facility which may increase the regulated pollutant emission rate; notification of the demonstration of the continuous monitoring system (CMS) and notification of the initial performance test.

Owners of affected facilities are required to install, calibrate, maintain, and operate a CMS to measure the change in the pressure of the gas stream through the scrubber and the scrubbing liquid flow rate. Owners or operators are also required to maintain records of the occurrence and duration of any startup, shut down, or malfunction in the operation of an affected facility, or any period during which the monitoring system is inoperative. Semiannual reports and monitoring systems performance reports which include the exceeded findings of any control device operating parameters deviations, the date and time of the deviance, the nature and cause of the malfunction (if known), the corrective measures taken, and identification of the time period during which the CMS was inoperative are also required.

Burden Statement: In the previously approved ICR, the estimated number of respondents for this information collection was 22 with 44 responses per year. The annual industry reporting and recordkeeping burden for this collection of information was 1,760 hours. On average, each respondent reported twice per year and 40 hours were spent preparing each response. The total annualized cost was $14,000. There were no capital/startup costs and the operation and maintenance costs were $14,000.

Dated: November 23, 2004.
Michael M. Stahl,
Director, Office of Compliance.

[FR Doc. 04-26477 Filed 11-30-04; 8:45 am]

BILLING CODE 6560-50-P